INTERNATIONAL TRADE COMMISSION

[Inv. No. 337-TA-605]

In the Matter of Certain Semiconductor Chips With Minimized Chip Package Size and Products Containing Same; Notice of Commission Determination To Extend the Deadline for Receiving Written Submissions on Issues Relating to Violation of Section 337, Remedy, the Public Interest, and Bonding; Extension of the Target Date

AGENCY: U.S. International Trade Commission.

ACTION: Notice.

SUMMARY: Notice is hereby given that the U.S. International Trade Commission has determined to extend the deadline for written submissions on issues concerning violation of section 337, remedy, the public interest, and bonding and to extend the target date in the above captioned investigation to April 13, 2009.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 21, 2007, based on a complaint filed by Tessera, Inc. of San Jose, California (“Tessera”) against Spansion, Inc. and Spansion, LLC, both of Sunnyvale, California; QUALCOMM, Inc. of San Diego, California; AT1 Technologies of Thornhill, Ontario, Canada; Motorola, Inc. of Schaumburg, Illinois; STMicroelectronics N.V. of Geneva, Switzerland; and Freescale Semiconductor, Inc. of Austin, Texas (collectively “Respondents”). 72 FR 28522 (May 21, 2007). The complaint alleges violations of section 337 in the importation into the United States, the sale for importation, and the sale within the United States after importation of certain semiconductor chips with minimized chip package size or products containing same by reason of infringement of one or more claims of U.S. Patent Nos. 5,852,326, and 6,433,419.

On December 1, 2008, the ALJ issued his final Initial Determination (“ID”) finding no violation of section 337 by Respondents. On January 30, 2009, the Commission issued a Notice determining to review the final ID in part and requesting written submissions from the parties regarding the issues under review concerning violation of section 337, as well as from the public regarding issues of remedy, the public interest, bonding. 74 FR 6175-7 (February 5, 2009). On February 6, 2009, Respondents filed a motion to extend the briefing schedule.

In light of the fact that the ALJ did not issue the public version of the final ID until February 9, 2009, the Commission has determined to extend the deadline for receiving initial written submissions on issues relating to violation of section 337, remedy, the public interest, and bonding until Monday, February 23, 2009. The Commission has also determined to extend the deadline for reply submissions on issues relating to violation of section 337, remedy, the public interest, and bonding until Thursday, March 5, 2009.

Persons filing written submissions must file the original document and 12 true copies thereof on or before the deadlines stated above with the Office of the Secretary. Any person desiring to submit a document to the Commission in confidence must request confidential treatment unless the information has already been granted such treatment during the proceedings. All such requests should be directed to the Secretary of the Commission and must include a full statement of the reasons why the Commission should grant such treatment. See 19 CFR 210.6. Documents for which confidential treatment by the Commission is sought will be treated accordingly. All nonconfidential written submissions will be available for public inspection at the Office of the Secretary.

The Commission has also determined to extend the target date of the above-referenced investigation by eleven (11) days to April 14, 2009.

The authority for the Commission's determination is contained in section 337 of the Tariff Act of 1930, as amended (19 U.S.C. 1337), and in section 210.42 of the Commission's Rules of Practice and Procedure (19 CFR 210.42).

By order of the Commission.
Issued: February 11, 2009.
Marilyn R. Abbott,
Secretary to the Commission.

[FR Doc. E9-3280 Filed 2-13-09; 8:45 am]

BILLING CODE 7020-02-P